DEPARTMENT OF STATE

[Public Notice 4719]

Public Meeting on Universal Postal Union Issues

SUMMARY: The Department of State will host a briefing on Thursday, June 10, 2004, to provide an update on current Universal Postal Union issues, including work leading up to and preparations for the UPU Congress to be held in Bucharest, Romania from September 15 to October 5, 2004.

The briefing will be held from 10 a.m. until 12 noon, on June 10, in Room 1207 of the Department of State, 2201 C Street, NW., Washington, DC. The briefing will be open to the public up to the capacity of the meeting room (40 persons).

The briefing will provide information on the results of the February 2004 sessions of the UPU Council of Administration and Postal Operations Council, whose major focus was to approve proposals and documentation for submission to the Bucharest UPU Congress. Special attention will be paid to several major issues to be taken up by the Bucharest Congress including terminal dues, the creation of a Consultative Committee within the UPU with primary membership from the private sector, service performance measurement, extra-territorial offices of exchange and an outline of the U.S. government's expected goals for the UPU for 2005-2008 period. Information will also be provided on the status of United States preparations for the Bucharest UPU Congress. The briefing will be chaired by Donald Booth, Director of the Office of Technical Specialized Agencies, Bureau of International Organization Affairs of the Department of State.

Entry to the Department of State building is controlled and will be facilitated by advance arrangements. In order to arrange admittance, persons desiring to attend the briefing should, no later than noon on June 9, 2004, notify the Office of Technical and Specialized Agencies, Bureau of International Organization Affairs, Department of State, preferably by fax, providing the name of the meeting and the individual's name, Social Security number, date of birth, professional affiliation, address and telephone number, The fax number to use is (202) 647-8902. Voice telephone is (202) 647-1044. This request applies to both government and non-government individuals.

All attendees must use the main entrance of the Department of State at 23rd Street between C and D Streets, NW. Please note that under current security restrictions, C Street is closed to vehicular traffic between 21st and 23rd Streets. Taxis may leave passengers at 21St and C Streets, 23rd and C Streets, or 22nd Street and Constitution Avenue. One of the following means of identification will be required for admittance: Any U.S. driver's license with photo, a passport, or any U.S. Government agency identification card.

Questions concerning the briefing may be directed to Mr. Dennis Delehanty at (202) 647-4197 or Heather Von Behren at (202) 647-2753 or via e-mail at delehantydm@state.gov.

Dated: May 10, 2004.
Dennis Delehanty,
Program Officer, Department of State.

[FR Doc. 04-11012 Filed 5-13-04; 8:45 am]

BILLING CODE 4710-19-P